DEPARTMENT OF HOMELAND SECURITY

U.S. Customs and Border Protection

DEPARTMENT OF THE TREASURY

19 CFR Part 12

[CBP Dec. 12-13]

RIN 1515-AD90

Extension of Import Restrictions on Archaeological Objects and Ecclesiastical and Ritual Ethnological Materials From Cyprus; Correction

AGENCY: U.S. Customs and Border Protection, Department of Homeland Security; Department of the Treasury.

ACTION: Final rule; correction; correcting amendment.

SUMMARY: On July 13, 2012, U.S. Customs and Border Protection (CBP) published in the Federal Register a final rule reflecting an extension of import restrictions on certain archaeological and ethnological materials from Cyprus and announcing that the Designated List of materials covered by the restrictions has been revised. The Designated List and the regulatory text in that document contain language which is inadvertently not consistent with the rest of the document as to the historical period that the import restrictions cover for ecclesiastical and ritual ethnological materials from Cyprus. This document corrects the inconsistent language to clarify that ecclesiastical and ritual ethnological materials from Cyprus representing the Byzantine and Post Byzantine periods, dating from approximately the 4th century A.D. to 1850 A.D., are subject to the import restrictions.

DATES: Effective Date: The corrections set forth in this document are effective on August 1, 2012.

FOR FURTHER INFORMATION CONTACT: Bill Conrad, Trade and Commercial Regulations Branch, Regulations and Rulings, Office of International Trade, (202) 325-0268.

SUPPLEMENTARY INFORMATION:

Background

On July 13, 2012, CBP published in the Federal Register (77 FR 41266), as CBP Decision Number 12-13, a final rule reflecting an extension of import restrictions on certain archaeological and ethnological materials from Cyprus and announcing that the Designated List of materials covered by the restrictions (also published with CBP Dec. 12-13) has been revised to reflect that the ethnological articles previously covered under the list through the Byzantine period (through approximately the 15th century A.D.) are also covered if dating through the Post-Byzantine period (to 1850 A.D.). The Designated List contains a list of certain archaeological materials and a list of certain ethnological materials. The revisions were limited to the list of ethnological materials.

The rule also announced an amendment to the list of ethnological materials to clarify that certain mosaics of stone and wall paintings (referred to as “wall hangings” in CBP Dec. 12-13) include those depicting images of Saints along with those depicting images of Christ, Archangels, and the Apostles. The restrictions were extended for a five-year period (through July 16, 2017) pursuant to determinations of the State Department under the terms of the Convention on Cultural Property Implementation Act in accordance with the United Nations Educational, Scientific and Cultural Organization (UNESCO) Convention on the Means of Prohibiting and Preventing the Illicit Import, Export and Transfer of Ownership of Cultural Property.

In CBP Dec. 12-13, the title of the Designated List was erroneously abbreviated where the Department of State Web site is listed. This document corrects the omission and clarifies that the covered ecclesiastical and ritual ethnological materials are those dating to the Byzantine and Post-Byzantine periods. In the list of ethnological materials, CBP inadvertently retained references to the Byzantine period. As the list was revised to cover listed ethnological materials if dating to the Post-Byzantine period as well, references to the Byzantine period in the list are inconsistent and misleading. This document corrects the oversight and removes all references to the Byzantine period in the list. In addition, this document corrects the language in Amendatory Instruction number 2 of CBP Dec. 12-13 which imprecisely set forth in the amended regulation the end point of the time period applicable to the ethnological materials covered by the restrictions. This correction remedies an inconsistency with the time period which was correctly reflected in the heading of the list of ethnological materials found on page 41269 of the published document (in the first column).

Correction of Publication

Accordingly, the publication on July 13, 2012 of the final regulation (CBP Dec. 12-13), which was the subject of FR Doc. 2012-16989, is corrected as follows:

Preamble:

1. In the first column on page 41267, in the last paragraph that extends into the second column, first sentence, remove the words “and Ecclesiastical and Ritual Ethnological Materials” and add in their place the words “and Byzantine and Post-Byzantine Period Ecclesiastical and Ritual Ethnological Materials”;

2. In the first column on page 41269:

a. Under the heading “B. Lead,” remove the words “date to the Byzantine period and”, and

b. Under the heading “II. Wood,” in the first sentence, remove the words “during the Byzantine period”;

3. In the second column on page 41269:

a. Under the heading “V. Textiles—Ritual Garments,” in the first sentence, remove the words “from the Byzantine period”,

b. Under the heading “A. Wall Mosaics,” in the first sentence, remove the words “Dating to the Byzantine period, wall mosaics” and add in their place the words “Wall mosaics”, and

c. Under the heading “VII. Frescoes/Wall Paintings,” in the first sentence, remove the words “the Byzantine period”.

Correcting amendment:

§ 12.104g(a) [Amended]

4. In § 12.104g(a), the table of the list of agreements imposing import restrictions on described articles of cultural property of State Parties is amended in the entry for Cyprus by, in the column headed “Cultural Property,” removing the entry and adding in its place the following entry: “Archaeological material of pre-Classical and Classical periods ranging approximately from the 8th millennium B.C. to 330 A.D. and ecclesiastical and ritual ethnological material representing the Byzantine and Post-Byzantine periods ranging from approximately the 4th century A.D. to 1850 A.D.”

Dated: July 26, 2012.
Harold M. Singer,
Director, Regulations and Disclosure Law Division, U.S. Customs and Border Protection.
Heidi Cohen,
Senior Counsel for Regulatory Affairs, Office of the Assistant General Counsel for General Law, Ethics & Regulation, Department of the Treasury.

[FR Doc. 2012-18670 Filed 7-31-12; 8:45 am]

BILLING CODE 9111-14-P